DEPARTMENT OF TRANSPORTATION

Coast Guard

[USCG-2003-14378]

Towing Safety Advisory Committee

AGENCY: Coast Guard, DOT.

ACTION: Notice of meeting.

SUMMARY: The Towing Safety Advisory Committee's (TSAC) Working Group on Maritime Security will meet to discuss various issues relating to current U.S. Coast Guard regulations as they pertain to towing vessels. The meeting will be open to the public.

DATES: The TSAC Working Group will meet on Tuesday, February 18, 2003, from 10 a.m. to 4 p.m. and on the following day, Wednesday, February 19, 2003, from 10 a.m. to 4 p.m. The meeting may close early if all business is finished. Written material and requests to make oral presentations should reach the Coast Guard on or before February 12, 2003. Requests to have a copy of your material distributed to each member of the Working Group should reach the Coast Guard on or before February 7, 2003.

ADDRESSES: The Working Group will meet in room 1303, U.S. Coast Guard Headquarters, 2100 Second Street SW., Washington, DC. Send written material and requests to make oral presentations to Mr. Gerald P. Miante, Commandant (G-MSO-1), Room 1210, U.S. Coast Guard Headquarters, 2100 Second Street SW., Washington, DC 20593-0001. This notice is available on the Internet at http://dms.dot.gov.

FOR FURTHER INFORMATION CONTACT: Mr. Gerald P. Miante, Assistant Executive Director of TSAC, telephone (202) 267-0214, or fax 202-267-4570, or e-mail at: gmiante@comdt.uscg.mil.

SUPPLEMENTARY INFORMATION: Notice of the meeting is given under the Federal Advisory Committee Act, 5 U.S.C. App. 2.

Agenda of Meeting

The agenda tentatively includes the following:

1. Ways the towing community can assist the Coast Guard to increase security awareness in our ports and other domestic waterways;

2. Measures the Coast Guard can take to increase operational security in these areas;

3. Anticipated threats on towing vessels with barges and how should those threats be addressed;

4. Relevant topics, e.g. Vessel Traffic Systems (VTS); Automatic Identification Systems (AIS); the size of vessels, and special Security Zones; and

5. Criteria for acceptance of Industry Standards for Security.

Procedural

The meeting is open to the public. All attendees must have photo identification to be admitted into Coast Guard Headquarters. Please note that the meeting may close early if all business is finished. At the Chair's discretion, members of the public may make oral presentations during the meeting. If you would like to make an oral presentation at the meeting, please notify the Assistant Executive Director no later than February 12, 2003. Written material for distribution at the meeting should reach the Coast Guard no later than February 7, 2003. If you would like a copy of your material distributed to each member of the Working Group in advance of the meeting, please submit 15 copies to Mr. Miante at the address in ADDRESSES, or an electronic version to the e-mail address in FOR FURTHER INFORMATION CONTACT, no later than February 7, 2003.

Information on Services for Individuals With Disabilities

For information on facilities or services for individuals with disabilities or to request special assistance at the meeting, contact the Assistant Executive Director as soon as possible.

Dated: January 28, 2003.
Joseph J. Angelo,
Director of Standards, Marine Safety, Security & Environmental Protection.

[FR Doc. 03-2522 Filed 2-3-03; 8:45 am]

BILLING CODE 4910-15-U